DEPARTMENT OF DEFENSE

Department of the Army; Corps of Engineers

Intent To Prepare a Draft Environmental Impact Statement for Navigation Improvements and Airport, Little Diomede Island, AK

AGENCY: Department of the Army, U.S. Army Corps of Engineers, DoD.

ACTION: Notice of intent.

SUMMARY: The U.S. Army Engineer District, Alaska, intends to prepare a Draft Environmental Impact Statement (DEIS) to evaluate the feasibility of a small boat harbor and, in collaboration with other agencies, opportunities for economic development and air transportation capability for the community of Little Diomede Island, AK. Ignaluk on Little Diomede Island, population 170, is a coastal community on the west side of Little Diomede Island, approximately 135 miles northwest of Nome. The community of Wales on the mainland is 27 miles from Little Diomede Island. Big Diomede Island, Russia, is 2 miles west of Little Diomede Island.

The community of Ignaluk is a small and very remote community in the Bering Sea. Transportation to Little Diomede is by air or sea. Due to the normal severe weather and sea conditions, any method of travel can be risky. A landing strip constructed on sea ice in the winter provides fixed-wing airplane access approximately 3 months of the year. Helicopters and boats are used during summer. High waves and rocky shores often make landing by boat difficult. A constant wind blows 15 knots with gusts up to 80 knots. Cloudy skies and fog are prevalent in the summer. There is no scheduled cargo ship schedule, and only barges and landing craft come close to the island; few actually land. There is weekly mail delivery by helicopter. Transportation of goods and services is expensive and medical evacuation is very difficult. The lack of access is a barrier to the economic future of the community and could force relocation of the entire community to the mainland. The draft EIS would also study any multi-use value of the airport and boat harbor projects for coastal storm damage reduction.

The DEIS will determine whether Federal action is warranted and will define alternative actions for Congressional consideration.

FOR FURTHER INFORMATION CONTACT: Lizette Boyer (907) 753-2637, Alaska District, U.S. Army Corps of Engineers, Environmental Resources Section (CEPOA-EN-CW-ER), P.O. Box 6898, Elmendorf AFB, AK 99506-0898. E-mail: Lizette.P.Boyer@poa02.usace.army.mil.

SUPPLEMENTARY INFORMATION: This study is authorized under the Rivers and Harbors Act. The people of Little Diomede Island have lived on the Bering Sea coast for at least 2,000 years. Relative isolation from outside influences has enabled the area to retain its traditions and customs.

The DEIS will consider various small boat harbor and investigate rock quarry sources for large armor stone and smaller sized rock for fill. The feasibility of the project depends on the availability of developing a quarry site on the island close to the community. A decision will be made if there is sufficient quantity and quality for the small boat harbor and other uses. The community will decide if community relocation is an option they want to take.

Issues: The DEIS will address Ignaluk need to become more economically viable through commercial fishing and accessibility to the mainland. Becoming more accessible to the outside world could impact community identity by allowing more social contact with off islanders. At the same time, accessibility to the island is key to quality of life issues such as sanitary water and sewer, health services, and general goods and services to people. The DEIS will address the importance of maintaining the community's traditional lifestyles, while providing modern infrastructure.

The Bering Strait is an important habitat area for marine life. It provides the only passage for marine birds and mammals that move seasonally between the Bering, Chukchi and Beaufort Seas. The upwelling and turbulence resulting from the water currents passing through the Bering Strait produces waters unusually rich in crustacean plankton which, in turn, support a large population of marine birds. The steep slopes of Little Diomede Island rise abruptly from the sea and provide nesting habitat for 13 species of seabirds. The island is the site of the largest kittiwake colony in the Northern Bering Sea. It also has the largest auklet population in Alaska.

Constructability criteria include geologic stability, availability, and cost effectiveness of an armor rock and fill quarry sources. Environmental issues include effects to sea bird nesting habitat, fish and wildlife resources, social well being, cultural resources and justifiable and practicable mitigation measures. Other resources and concerns will be identified through scoping, public involvement, and interagency coordination.

Scoping: A copy of this notice and additional public information will be sent to interested parties to initiate scoping. All parties are invited to participate in the scoping process by identifying any additional concerns, issues, studies, and alternatives that should be considered. A scoping meeting will be held on Little Diomede Island, AK, in the February/March 2007 time frame. The DEIS is scheduled for release in 2009.

Brenda S. Bowen,
Army Federal Register Liaison Officer.

[FR Doc. 06-9854 Filed 12-22-06; 8:45 am]

BILLING CODE 3710-NL-M